NUCLEAR REGULATORY COMMISSION

[Docket Nos. 50-275 and 50-323; NRC-2016-0237]

Pacific Gas and Electric Company

AGENCY: Nuclear Regulatory Commission.

ACTION: Director's decision under 10 CFR 2.206; issuance.

SUMMARY: The U.S. Nuclear Regulatory Commission (NRC) has issued a director's decision with regard to a petition dated July 14, 2016, filed by Mr. David Lochbaum on behalf of the Union of Concerned Scientists (the petitioner), requesting that the NRC take action against Pacific Gas and Electric Company (PG&E, the licensee) with regard to Diablo Canyon Power Plant, Units 1 and 2 (DCPP). The petitioner's requests and director's decision are included in the SUPPLEMENTARY INFORMATION section of this document.

ADDRESSES: Please refer to Docket ID NRC-2016-0237 when contacting the NRC about the availability of information regarding this document. You may obtain publicly-available information related to this document using any of the following methods:

• Federal Rulemaking Web site: Go to http://www.regulations.gov and search for Docket ID NRC-2016-0237. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Margaret Watford, Office of Nuclear Reactor Regulation, U.S. Nuclear Regulatory Commission, Washington, DC 20555-0001; telephone: 301-415-1233, email: Margaret.Watford@nrc.gov.

SUPPLEMENTARY INFORMATION: Notice is hereby given that the Director, Office of Nuclear Reactor Regulation, has issued a director's decision (ADAMS Accession No. ML17108A590) on a petition filed by the petitioner on July 14, 2016 (ADAMS Accession No. ML16196A294). The petition was supplemented by an email dated August 2, 2016, and a letter dated March 27, 2017 (ADAMS Accession Nos. ML16215A109 and ML17102A524, respectively).

The petitioner requested that the NRC take enforcement action against PG&E related to the DCPP. Specifically, the petitioner requested that the NRC “issue a Demand for Information pursuant to 10 CFR [title 10 of the Code of Federal Regulations] 2.204 to PG&E requiring the company to provide the NRC with a written explanation as to why its June 17, 2015, license amendment request failed to include all the accurate information needed by the NRC staff to complete its review and the measures it will implement so as to comply with the 10 CFR 50.9 [“Completeness and accuracy of information”] in future submittals to the NRC.”

On August 2, 2016, the petitioner met with the NRC's Petition Review Board. The meeting provided the petitioner and the licensee an opportunity to provide additional information and to clarify issues cited in the petition. The transcript for that meeting is available in ADAMS under Accession No. ML16232A570.

The NRC sent a copy of the proposed director's decision to the petitioner and the licensee for comment on March 15, 2017. The petitioner and the licensee were asked to provide comments by March 29, 2017, on any part of the proposed director's decision that was considered to be erroneous or any issues in the petition that were not addressed. While most of the comments received from the petitioner are outside the scope of the 2.206 petition, the comments are addressed at the end of the final director's decision.

The Director, Office of Nuclear Reactor Regulation, has determined that the request for enforcement action against PG&E be denied. The reasons for this decision are explained in the director's decision DD-17-03 pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 12th day of May 2017.
For the Nuclear Regulatory Commission.
William M. Dean,
Director, Office of Nuclear Reactor Regulation.

[FR Doc. 2017-10430 Filed 5-19-17; 8:45 am]

BILLING CODE 7590-01-P